DEPARTMENT OF THE INTERIOR

National Park Service

[NPS-WASO-NRNHL-11746: 2200-3200-665]

National Register of Historic Places; Notification of Pending Nominations and Related Actions

Nominations for the following properties being considered for listing or related actions in the National Register were received by the National Park Service before November 10, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by December 31, 2012. Before including your address, phone number, email address, or other personal identifying information in your comment, you should be aware that your entire comment—including your personal identifying information—may be made publicly available at any time. While you can ask us in your comment to withhold your personal identifying information from public review, we cannot guarantee that we will be able to do so.

Dated: November 15, 2012.
J. Paul Loether,
Chief, National Register of Historic Places/National Historic Landmarks Program.

ALABAMA

Morgan County

East Old Town Historic District, Address Restricted, Decatur, 12001079

West Old Town Historic District, Address Restricted, Decatur, 12001080

COLORADO

Routt County

Bell and Canant Mercantile—Crossan's M and A Market, 101 Main St., Yampa, 12001081

GEORGIA

Richmond County

Paine College Historic District, 1235 15th St., Augusta, 12001082

IOWA

Harrison County

Woodbine Lincoln Highway and Brick Street Historic District (Iowa's Main Street Commercial Architecture MPS), 101-524 Lincoln Way, 303-524 Walker, parts of 5th, 4th, & 3rd Sts., Woodbine, 12001083

MARYLAND

Baltimore Independent City

Locust Point Historic District, Roughly bounded by Fort Ave., B & O RR., Woodall & Reynolds Sts., Baltimore (Independent City), 12001084

Washington County

Elmwood, 16311 Kendle Rd., Williamsport, 12001085

MISSISSIPPI

Hinds County

Belhaven Historic District, Roughly bounded by E. Fortification & N. State Sts., I-55, Riverside Dr., Jackson, 12000920

MONTANA

Lewis and Clark County

Huseby, John H., House, 511 E. 6th Ave., Helena, 12001086

NORTH CAROLINA

Catawba County

Hollar Hosiery Mills—Knit Sox Knitting Mills, 883 Highland Ave., SE., Hickory, 12001087

Durham County

Wright's Automatic Machinery Company, 915 Holloway St., Durham, 12001088

Johnston County

Harrison, Richard B., School, 605 W. Noble & 405 S. Brevard Sts., Selma, 12001089

Surry County

Marion House and Marion Brothers Store, 7034 Siloam Rd., Siloam, 12001090

OHIO

Hamilton County

Main—Third Street Buildings, 208—210 E. 3rd & 300-318 Main Sts., Cincinnati, 83004654

OREGON

Jackson County

Antelope Creek Covered Bridge (Oregon Covered Bridges TR), Little Butte Cr., 35 ft. E. of Main St., Eagle Point, 12001091

Polk County

Grand Ronde Rail Depot, 8615 Grand Ronde Rd., Grand Ronde, 12001092

PENNSYLVANIA

Allegheny County

Brashear, John A., House and Factory, 1954 Perrysville Ave., Pittsburgh, 12001093

United States Post Office—Sewickley Branch, 200 Broad St., Sewickley, 12001094

Butler County

Preston Laboratories, 415 S. Eberhart Rd., Butler, 12001095

Franklin County

Irwinton Historic District, 9717 & 9685 Anderson Rd. (Montgomery Township), Upton, 12001096

Philadelphia County

Hotel Pennsylvania, 3900 Chestnut St., Philadelphia, 12001097

Wilson, James, Public School (Philadelphia Public Schools TR), 1148 Wharton St., Philadelphia, 88002238

RHODE ISLAND

Providence County

Lymansville Company Mill, 184 Woonasquatucket Ave., North Providence, 12001098

WASHINGTON

Pierce County

Whitman Elementary School, 1120 S. 39th St., Tacoma, 12001100

Spokane County

City Ramp Garage, 430 W. 1st Ave., Spokane, 12001099

[FR Doc. 2012-30173 Filed 12-13-12; 8:45 am]

BILLING CODE 4312-51-P